DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on January 1, 2023, through January 31, 2023. This list provides the name of the petitioner, city, and state of vaccination (if unknown then the city and state of the person or attorney filing the claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading For Further Information Contact), with a copy to HRSA addressed to Director, Division of Injury Compensation Programs, Health Systems Bureau, 5600 Fishers Lane, 08N146B, Rockville, Maryland 20857. The Court's caption (Petitioner's Name v. Secretary of HHS) and the docket number assigned to the petition should be used as the caption for the written submission. Chapter 35 of title 44, United States Code, related to paperwork reduction, does not apply to information required for purposes of carrying out the Program.

Carole Johnson,
Administrator.

List of Petitions Filed

1. Leonard Sherman, Guilford, Connecticut, Court of Federal Claims No: 23-0002V

2. Tammy Standley, Marshall, Missouri, Court of Federal Claims No: 23-0004V

3. Ifafunke Oladigbolu and Eric Burton on behalf of E.T.B., Deceased, Broadway, California, Court of Federal Claims No: 23-0005V

4. Diane Kudalis, Nashua, New Hampshire, Court of Federal Claims No: 23-0007V

5. Travis Webb on behalf of L.W., Phoenix, Arizona, Court of Federal Claims No: 23-0008V

6. Paul Hartman, Clermont, Florida, Court of Federal Claims No: 23-0009V

7. Sherill Williams, Navarre, Florida, Court of Federal Claims No: 23-0010V

8. Stacey Wyble, Perkasie, Pennsylvania, Court of Federal Claims No: 23-0012V

9. Andrea Horowitz, Melbourne, Australia, Court of Federal Claims No: 23-0015V

10. Shilo Birnie, Mesa, Arizona, Court of Federal Claims No: 23-0016V

11. Desire Klingensmith, Memphis, Tennessee, Court of Federal Claims No: 23-0017V

12. Mary Kane, West Chester, Pennsylvania, Court of Federal Claims No: 23-0018V

13. Dawnn Dorsey, Lansing, Illinois, Court of Federal Claims No: 23-0019V

14. Deborah Summers, York, Pennsylvania, Court of Federal Claims No: 23-0020V

15. Elisa Samuels, Woodmere, New York, Court of Federal Claims No: 23-0021V

16. Gina Hura, Lithia, Florida, Court of Federal Claims No: 23-0022V

17. Joshua Cauley, Phoenix, Arizona, Court of Federal Claims No: 23-0023V

18. Patricia Haberman, Northville, Michigan, Court of Federal Claims No: 23-0025V

19. Shiela Seger, Midlothian, Virginia, Court of Federal Claims No: 23-0026V

20. Lori Walter, Colby, Kansas, Court of Federal Claims No: 23-0029V

21. Kristy Anderson, Las Vegas, Nevada, Court of Federal Claims No: 23-0033V

22. Miguel Perez, Millburn, New Jersey, Court of Federal Claims No: 23-0034V

23. Kathleen Burden, Langhorne, Pennsylvania, Court of Federal Claims No: 23-0035V

24. Isai Nava, West Dundee, Illinois, Court of Federal Claims No: 23-0038V

25. Patrick Mahoney, Pottsville, Pennsylvania, Court of Federal Claims No: 23-0039V

26. Daryl V. Reiser, Urbana, Illinois, Court of Federal Claims No: 23-0042V

27. Taylor Deatrick, Tucson, Arizona, Court of Federal Claims No: 23-0044V

28. Tamara Cook, Las Vegas, Nevada, Court of Federal Claims No: 23-0048V

29. Joanne Gaden, Bradenton, Florida, Court of Federal Claims No: 23-0049V

30. Caesar Martinez on behalf of V.M., Phoenix, Arizona, Court of Federal Claims No: 23-0051V

31. Janis Haine, Traverse City, Michigan, Court of Federal Claims No: 23-0052V

32. Emily Ellis on behalf of L.E., Phoenix, Arizona, Court of Federal Claims No: 23-0053V

33. Janel Mortell, Boston, Massachusetts, Court of Federal Claims No: 23-0054V

34. Heath Current, Grimes, Iowa, Court of Federal Claims No: 23-0055V

35. Heidy Feb, McKinney, Texas, Court of Federal Claims No: 23-0057V

36. Celia Donofrio, Toms River, New Jersey, Court of Federal Claims No: 23-0058V

37. Megan Vanausdol, Bozeman, Montana, Court of Federal Claims No: 23-0061V

38. Roger Gregg, Helena, Montana, Court of Federal Claims No: 23-0062V

39. Emily West, Birmingham, Alabama, Court of Federal Claims No: 23-0063V

40. Mary Davis, Washington, District of Columbia, Court of Federal Claims No: 23-0065V

41. James Victor Welch, Greensboro, North Carolina, Court of Federal Claims No: 23-0066V

42. April Kiekintveld, Farmington Hills, Michigan, Court of Federal Claims No: 23-0067V

43. Tiffany Huettl on behalf of R.H., Milwaukee, Wisconsin, Court of Federal Claims No: 23-0068V

44. Kylee Carleson, Phoenix, Arizona, Court of Federal Claims No: 23-0069V

45. Christine Lawrence, Washington, District of Columbia, Court of Federal Claims No: 23-0071V

46. Adora Schneiders, Sioux City, Iowa, Court of Federal Claims No: 23-0072V

47. Anne Schweizer, Grand Rapids, Michigan, Court of Federal Claims No: 23-0075V

48. Nancy Ancowitz, New York, New York, Court of Federal Claims No: 23-0079V

49. Patrick Lewis and Connie Lewis on behalf of Regan Lewis, Deceased, Phoenix, Arizona, Court of Federal Claims No: 23-0080V

50. Amy Blood on behalf of S.B., Phoenix, Arizona, Court of Federal Claims No: 23-0081V

51. Megan Kephart, Phoenix, Arizona, Court of Federal Claims No: 23-0082V

52. Abigail James on behalf of E.J., Phoenix, Arizona, Court of Federal Claims No: 23-0083V

53. Abigail Hawkins on behalf of A.H., Chicago, Illinois, Court of Federal Claims No: 23-0086V

54. Edward L. Aman, Macedon, New York, Court of Federal Claims No: 23-0087V

55. Janet Zimmerman, Helena, Montana, Court of Federal Claims No: 23-0088V

56. Colleen Sherman, Ann Arbor, Michigan, Court of Federal Claims No: 23-0091V

57. Folashade Taylor, Philadelphia, Pennsylvania, Court of Federal Claims No: 23-0092V

58. Thomas Mason, Hasbrouck Heights, New Jersey, Court of Federal Claims No: 23-0095V

59. Sheila Woods, Dresher, Pennsylvania, Court of Federal Claims No: 23-0096V

60. Jessica Joyce, Dresher, Pennsylvania, Court of Federal Claims No: 23-0097V

61. Jacob Hawkins, Sacramento, California, Court of Federal Claims No: 23-0098V

62. Elaine Jackson, Saint Joseph, Michigan, Court of Federal Claims No: 23-0099V

63. Alton Brent, Boston, Massachusetts, Court of Federal Claims No: 23-0100V

64. Demetrius Pugh, Boscobel, Wisconsin, Court of Federal Claims No: 23-0101V

65. Christina Anderson, Milan, Illinois, Court of Federal Claims No: 23-0102V

66. Duane F. Pomeroy, Topeka, Kansas, Court of Federal Claims No: 23-0104V

67. Stacey Mooney, Groveland, Illinois, Court of Federal Claims No: 23-0105V

68. Maria Michael, Milwaukee, Wisconsin, Court of Federal Claims No: 23-0106V

69. Brianna Heisey, Phoenix, Arizona, Court of Federal Claims No: 23-0107V

70. Emily Hass, Phoenix, Arizona, Court of Federal Claims No: 23-0108V

71. Taylor Archibald-Romero, Phoenix, Arizona, Court of Federal Claims No: 23-0109V

72. Jennifer Miller, Dresher, Pennsylvania, Court of Federal Claims No: 23-0110V

73. Rebecca Graeme, Phoenix, Arizona, Court of Federal Claims No: 23-0111V

74. Elizabeth Layne, Phoenix, Arizona, Court of Federal Claims No: 23-0114V

75. Lindsey Peppers, Phoenix, Arizona, Court of Federal Claims No: 23-0115V

76. Megan Rogers, Phoenix, Arizona, Court of Federal Claims No: 23-0116V

77. Kattie Nehring, Phoenix, Arizona, Court of Federal Claims No: 23-0117V

78. Debra Simmons, Eugene, Oregon, Court of Federal Claims No: 23-0121V

79. Crystal Richardson, Dover, New Hampshire, Court of Federal Claims No: 23-0122V

80. Adeli Gonzalez, Phoenix, Arizona, Court of Federal Claims No: 23-0123V

81. Kyle McGinnis, Maple Grove, Minnesota, Court of Federal Claims No: 23-0124V

82. Quentin Lewis on behalf of E.L., Pittsburgh, Pennsylvania, Court of Federal Claims No: 23-0126V

83. Elsie Boria, Phoenix, Arizona, Court of Federal Claims No: 23-0127V

84. Clarence Mayes, Fayetteville, Georgia, Court of Federal Claims No: 23-0128V

85. John Laconte, Englewood, New Jersey, Court of Federal Claims No: 23-0133V

86. Michelle Thompsen, Rancho Cucamonga, California, Court of Federal Claims No: 23-0134V

87. Kimberly Disilvestro, Englewood, New York, Court of Federal Claims No: 23-0135V

[FR Doc. 2023-03857 Filed 2-23-23; 8:45 am]

BILLING CODE 4165-15-P